DEPARTMENT OF JUSTICE

Antitrust Division

Notice Pursuant to the National Cooperative Research and Production Act of 1993-Teaming Agreement for Implementation of the Advanced Gun Systems Program

Correction

In notice document 01-5719 appearing on page 13973 in the issue of Thursday, March 8, 2001, make the following correction:

On page 13973, in the first column, in the first paragraph, the date “April 17, 2000” should read “April 7, 2000”.

[FR Doc. C1-5719 Filed 3-21-01; 8:45 am]

BILLING CODE 1505-01-D